DEPARTMENT OF VETERANS AFFAIRS

[OMB Control No. 2900-0009]

Agency information Collection Activity: Application for Vocational Rehabilitation for Veterans With Service-Connected Disabilities

AGENCY: Veterans Benefits Administration, Department of Veterans Affairs.

ACTION: Notice to Withdraw.

SUMMARY: On Feb 02, 2019, the Department of Veterans Affairs (VA) erroneously posted a 60-day Federal Register Notice Agency Information Collection Activity: (Application for Vocational Rehabilitation for Veterans with Service-Connected Disabilities (Chapter 31, Title 38 U.S.C.) (VA Form 28-1900)) Document Number: 2019-01687; OMB control number: 2900-0009 This FRN public comment period should have been listed as 60 days and not 30 days as published.

FOR FURTHER INFORMATION CONTACT: Danny S. Green, Enterprise Records Service (005R1B), Department of Veterans Affairs, 810 Vermont Avenue NW, Washington, DC 20420, at 202-421-1354.

Correction

VA wishes to inform the public that it is withdrawing FRN Document Number: 2019-01687, 84 FR 2949. This was a 30-day public comment FR Notice published in error. The correct 60-day FR Notice for public comment will be published simultaneously with this notification.

Dated: February 11, 2019.
By direction of the Secretary.
Danny S. Green,
Interim VA Clearance Officer, Office of Quality, Performance and Risk (QPR), Department of Veterans Affairs.

[FR Doc. 2019-02560 Filed 2-14-19; 8:45 am]

BILLING CODE 8320-01-P